NATIONAL FOUNDATION ON THE ARTS AND THE HUMANITIES

National Endowment for the Arts

National Council on the Arts 212th Meeting

AGENCY: National Endowment for the Arts, National Foundation on the Arts and Humanities.

ACTION: Notice of meeting.

SUMMARY: Pursuant to the Federal Advisory Committee Act, as amended, notice is hereby given that a meeting of the National Council on the Arts will be held open to the public. An additional session will be closed to the public for reasons stated below.

DATES: See the SUPPLEMENTARY INFORMATION section for meeting time and date. The meeting is located in eastern time and the ending time is approximate.

ADDRESSES: The National Endowment for the Arts, Constitution Center, 400 Seventh Street SW, Washington, DC 20560. Please see arts.gov for the most up-to-date meeting location and videoconferencing information.

FOR FURTHER INFORMATION CONTACT: Liz Auclair, Office of Public Affairs, National Endowment for the Arts, Washington, DC 20506, at 202/682-5744.

SUPPLEMENTARY INFORMATION: The meeting will take place on March 26 and 27, 2024. The meeting on March 27, 2024, from 11 a.m. to 12:30 a.m., will be open to the public. If, in the course of the open session discussion, it becomes necessary for the Council to discuss non-public commercial or financial information of intrinsic value, the Council will go into closed session pursuant to subsection (c)(4) of the Government in the Sunshine Act, 5 U.S.C. 552b, and in accordance with the March 11, 2022 determination of the Chair. Additionally, discussion concerning purely personal information about individuals, such as personal biographical and salary data or medical information, may be conducted by the Council in closed session in accordance with subsection (c)(6) of 5 U.S.C. 552b. The meeting session that occurs on March 26, 2024 will be closed to the public for the aforementioned reasons.

Detailed Meeting Information

Closed Session: March 26, 2024; 9:30 a.m. to 3 p.m. Location: Please see arts.gov for meeting location.

Open Session: March 27, 2024; 11 a.m. to 12:30 a.m. Location: Please see arts.gov for meeting location and videoconferencing information. There will be opening remarks and voting on recommendations for grant funding and rejection, updates from NEA Chair Maria Rosario Jackson, and presentations from the NEA's performing arts staff. If you need special accommodations due to a disability, please contact Beth Bienvenu, Office of Accessibility, National Endowment for the Arts, Constitution Center, 400 7th St. SW, Washington, DC 20506, 202/682-5733, Voice/T.T.Y. 202/682-5496, at least seven (7) days prior to the meeting.

Dated: March 4, 2024.
Daniel Beattie,
Director, Office of Guidelines and Panel Operations.

[FR Doc. 2024-04934 Filed 3-7-24; 8:45 am]

BILLING CODE 7537-01-P